DEPARTMENT OF COMMERCE

National Oceanic and Atmospheric Administration

[I.D. 102104G]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held November 7-10, 2004.

ADDRESSES: These meetings will be held at the Sheraton South Padre Island, 310 Padre Boulevard, South Padre Island, TX 78597.

Council address: Gulf of Mexico Fishery Management Council, 3018 North U.S. Highway 301, Suite 1000, Tampa, FL 33619.

FOR FURTHER INFORMATION CONTACT: Wayne E. Swingle, Executive Director, Gulf of Mexico Fishery Management Council; telephone: (813) 228-2815.

SUPPLEMENTARY INFORMATION:

Council

Tuesday, November 9, 2004

8:30 a.m. Convene.

8:45 a.m - 9 a.m. - Appointment of Committee Members.

9 a.m. - 9:10 a.m. - Receive public testimony on Exempted Fishing Permits (if any).

9:10 a.m. - 10:30 a.m. - Receive the Shrimp Management Committee report.

10:30 a.m. - 11:30 a.m. - Receive the Habitat Protection Committee report.

1 p.m. - 2 p.m. - Receive the Law Enforcement Committee report.

2 p.m. - 5:30 p.m. - Receive the Reef Fish Management Committee report.

Wednesday, November 10, 2004

8:30 a.m. - 9 a.m. - Receive the Joint Reef Fish/Mackerel/Red Drum Committee report.

9 a.m. - 9:15 a.m. - Receive the Mackerel Management Committee report.

9:15 a.m. - 9:30 a.m. - Receive the Joint Artificial Reef/Reef Fish Management Committee report.

9:30 a.m. - 9:45 a.m. - Receive the Data Collection Committee report.

9:45 a.m. - 10 a.m. - Receive the Administrative Policy Committee report.

10 a.m. - 10:15 a.m. - Receive the International Commission for the Conservation of Atlantic Tunas (ICCAT) Advisory Committee report.

10:15 a.m. - 10:30 a.m. - Receive Enforcement Reports.

10:30 a.m. - 11 a.m. - Receive the NMFS Regional Administrator's Report.

11 a.m. - 11:15 a.m. - Receive Director's Reports.

11:15 a.m. - 11:30 a.m. - Other Business.

Committee

Sunday, November 7, 2004

9 a.m. - 10 a.m. - The Mackerel Management Committee will review public hearing and Advisory Panel (AP)/Scientific and Statistical Committee (SSC) comments on Draft Coastal Migratory Pelagics (CMP) Amendment 15 which proposes a permanent limited access system on commercial mackerel vessel permits.

10 a.m. - 11 a.m. - The Law Enforcement Committee will review and approve a 5-year Strategic Plan and an Operation Plan for 2005.

11 a.m. - 12 noon - The Joint Reef Fish/Mackerel Committees will review a Mississippi Fishing Banks Special Management Zone Request.

1:30 p.m. - 5:30 p.m. - The Reef Fish Management Committee will consider the preferred alternatives for the structure of a Red Snapper Individual Fishing Quota (IFQ) program and review an Options Paper for Reef Fish Amendment 18A. The Committee will also review Draft Reef Fish Amendment 24 with public hearing and AP/SSC comments, which proposes a permanent limited access system on commercial mackerel vessel permits.

Monday, November 8, 2004

8:30 a.m. - 10 a.m. - The Reef Fish Management Committee will reconvene to complete its work.

10 a.m. - 12 noon - The Shrimp Management Committee will review the Business Plan for the Gulf Shrimp Industry that was drafted by NOAA Fisheries and which contains management alternatives that NOAA Fisheries believes are necessary for the industry to survive the economic slump caused by importation of foreign shrimp. The Committee will also hear a report by NOAA Fisheries enforcement on a sea turtle management strategy.

1:30 p.m. - 2:30 p.m. - The Habitat Protection Committee will review and recommend a public hearing draft of a Generic Essential Fish Habitat (EFH) Amendment and review the recommendations of the Southeast Aquatic Resources Partnership (SARP) on cooperative state and federal management of aquatic resources.

2:30 p.m. - 3:30 p.m. - The Joint Reef Fish/Mackerel/Red Drum Committees will review the first draft of an Options Paper for a Generic Amendment for Regulating Offshore Aquaculture and hear a status report on the Amendment to Extend the Charter Vessel Permit Moratorium.

3:30 p.m. - 4:30 p.m. - The Data Collection Committee will review the fishery community socioeconomic studies being carried out by NOAA Fisheries.

4:30 p.m. - 5:30 p.m. - The Administrative Policy Committee will discuss options for consolidating committees.

Although other non-emergency issues not on the agendas may come before the Council and Committees for discussion, in accordance with the Magnuson-Stevens Fishery Conservation and Management Act, those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the untimely completion of discussion relevant to other agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) by October 27, 2004.

Dated: October 21, 2004.
Bruce C. Morehead,
Acting Director, Office of Sustainable Fisheries, National Marine Fisheries Service.

[FR Doc. 04-24009 Filed 10-26-04; 8:45 am]

BILLING CODE 3510-22-S